DEPARTMENT OF DEFENSE

Department of the Navy

Extension of Public Comment Period for the Draft Environmental Impact Statement/Draft Overseas Environmental Impact Statement (DEIS/DOEIS) for the Naval Air Warfare Center Weapons Division (NAWCWD) Point Mugu Sea Range

AGENCY: Department of the Navy, DOD.

ACTION: Notice.

SUMMARY: The Department of the Navy (Navy) has prepared and filed with the U.S. Environmental Protection Agency (EPA) a DEIS/DOEIS evaluating the environmental effects of existing and increased testing and training activities on the NAWCWD Point Mugu Sea Range. The public review period previously announced in the Federal Register on July 28, 2000 (65 FR 46696) provided for a 45-day comment period with comments due on September 11, 2000. This notice announces the extension of the public review period to October 11, 2000. Five public hearings to receive comments on the DEIS/DOEIS were conducted during August 2000 in Oxnard, California; Camarillo, California; Ventura, California; Santa Barbara, California; and Santa Monica, California.

DATES AND ADDRESSES: See SUPPLEMENTARY INFORMATION section for dates and addresses.

SUPPLEMENTARY INFORMATION: Per Section 102(2)(c) of the National Environmental Policy Act of 1969 as implemented by the Council on Environmental Quality regulations (40 CFR Parts 1500-1508) and Executive Order 12114 (Environmental Effects Abroad of Major Federal Actions), the Navy has prepared and filed with the EPA a DEIS/DOEIS evaluating the environmental effects of existing and increased testing and training activities on the NAWCWD Point Mugu Sea Range. A Notice of Availability for the DEIS/DOEIS appeared in the Federal Register on July 28, 2000 (65 FR 46696). That notice stated that comments on the DEIS/DOEIS were due by September 11, 2000. The Navy is extending the public review period to October 11, 2000. All written comments should be postmarked on or before October 11, 2000. Written comments should be sent to Naval Air Warfare Center Weapons Division, Point Mugu Sea Range EIS, 521 9th Street, Point Mugu, California 93042-5001 (Attn. Ms. Gina Smith, Code 8G0000E, facsimile (805) 989-0143).

The DEIS/DOEIS has been distributed to various federal, state, and local agencies, elected officials, and special interest groups and libraries. Complete copies of the document are available for public review at the following eight information repositories:

• Oxnard Public Library, Reference Desk, 251 South “A” Street, Oxnard, California.

• Ray D. Prueter Library, 510 Park Avenue, Port Hueneme, California.

E. P. Foster Library, 651 E. Main Street Ventura, California.

• Santa Barbara Public Library, 40 East Anapamu Street, Santa Barbara, California

Naval Air Station Point Mugu Library, Code 836300E, Building No. 3-10, North Mugu Road, Point Mugu, California.

• Camarillo Public Library, 3100 Ponderosa Drive, Camarillo, California.

• Malibu Library, 23519 West Civic Center Way, Malibu, California.

• Santa Monica Public Library, Reference Section, 1343 6th Street, Santa Monica, California.

The Executive Summary of the DEIS/DOEIS may be viewed on the Point Mugu Sea Range DEIS/DOEIS Home Page at the following web address: http://www.nawcwpns.navy.mil/~pmeis.

FOR FURTHER INFORMATION CONTACT: Ms. Gina Smith, Code 8G0000E, Naval Air Warfare Center Weapons Division, Point Mugu Sea Range EIS, 521 9th Street, Point Mugu, CA 93042-5001, telephone (888) 217-9045, facsimile (805) 989-0143. Additional information may be obtained by accessing the Point Mugu Sea Range EIS/OEIS Home Page at the following web address: http://www.nawcwpns.navy.mil/~pmeis.

Dated: September 6, 2000.
C.G. Carlson,
Major, U.S. Marine Corps, Alternate Federal Register Liaison Officer.

[FR Doc. 00-23401 Filed 9-11-00; 8:45 am]

BILLING CODE 3810-FF-P